DEPARTMENT OF LABOR

Employment and Training Administration

[TA-W-56,210]

Monroe Salt Works, Monroe Maine; Notice of Termination of Investigation

Pursuant to section 221 of the Trade Act of 1974, an investigation was initiated on December 13, 2004 in response to a petition filed by a company official on behalf of workers at Monroe Salt Works, Monroe, Maine.

The petitioner has requested that the petition be withdrawn. Consequently, the investigation has been terminated.

Signed at Washington, DC this 28th day of December 2004.
Elliott S. Kushner,
Certifying Officer, Division of Trade Adjustment Assistance.

[FR Doc. E5-262 Filed 1-25-05; 8:45 am]

BILLING CODE 4510-30-P